DEPARTMENT OF ENERGY

Federal Energy Regulatory Commission

Combined Notice of Filings #1

Take notice that the Commission received the following electric rate filings:

Docket Numbers: ER17-2259-001.

Applicants: Seville Solar One LLC.

Description: Tariff Amendment: Amendment to Seville Filing in ER17-2259 to be effective 8/8/2017.

Filed Date: 8/8/17.

Accession Number: 20170808-5152.

Comments Due: 5 p.m. ET 8/29/17.

Docket Numbers: ER17-2264-000.

Applicants: Midcontinent Independent System Operator, Inc.

Description: Section 205 (d) Rate Filing: 2017-08-09_SA 3036 Turtle Creek-ITC Midwest GIA (J449) to be effective 7/26/2017.

Filed Date: 8/9/17.

Accession Number: 20170809-5031.

Comments Due: 5 p.m. ET 8/30/17.

Docket Numbers: ER17-2265-000.

Applicants: Otter Tail Power Company, Midcontinent Independent System Operator, Inc.

Description: Section 205 (d) Rate Filing: 2017-08-09_SA 2970 OTP-NSPM Amended FSA (J262 J263) to be effective 10/8/2017.

Filed Date: 8/9/17.

Accession Number: 20170809-5054.

Comments Due: 5 p.m. ET 8/30/17.

Docket Numbers: ER17-2266-000.

Applicants: ITC Midwest LLC.

Description: Section 205 (d) Rate Filing: Filing of a Master Joint Use Agreement for Distribution Underbuild to be effective 10/9/2017.

Filed Date: 8/9/17.

Accession Number: 20170809-5068.

Comments Due: 5 p.m. ET 8/30/17.

Docket Numbers: ER17-2267-000.

Applicants: PJM Interconnection, L.L.C.

Description: Section 205 (d) Rate Filing: Amendment to Service Agreement No. 3579, Queue Nos. U2-077/W1-001 to be effective 12/31/9998.

Filed Date: 8/9/17.

Accession Number: 20170809-5079.

Comments Due: 5 p.m. ET 8/30/17.

Docket Numbers: ER17-2268-000.

Applicants: MATEP Limited Partnership.

Description: Section 205 (d) Rate Filing: MATEP Rev Tariff re 819 etc to be effective 8/10/2017.

Filed Date: 8/9/17.

Accession Number: 20170809-5085.

Comments Due: 5 p.m. ET 8/30/17.

Docket Numbers: ER17-2269-000.

Applicants: Mid-Atlantic Interstate Transmission, LLC, PJM Interconnection, L.L.C.

Description: Section 205 (d) Rate Filing: MAIT submits Engineering and Construction Services Agreement No. 4691 to be effective 10/8/2017.

Filed Date: 8/9/17.

Accession Number: 20170809-5108.

Comments Due: 5 p.m. ET 8/30/17.

Docket Numbers: ER17-2270-000.

Applicants: Stuttgart Solar, LLC.

Description: Baseline eTariff Filing: Stuttgart Solar, LLC Application for Market Based Rates to be effective 10/8/2017.

Filed Date: 8/9/17.

Accession Number: 20170809-5111.

Comments Due: 5 p.m. ET 8/30/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2017.
Nathaniel J. Davis, Sr.,
Deputy Secretary.

[FR Doc. 2017-17261 Filed 8-15-17; 8:45 am]

BILLING CODE 6717-01-P